DEPARTMENT OF THE TREASURY

Office of Thrift Supervision

[AC-04: OTS Nos. H-3683 and 00567]

Lawrence Financial Holdings, Inc., Ironton, OH; Approval of Conversion Application

Notice is hereby given that on November 13, 2000, the Director, Office of Examination and Supervision, Office of Thrift Supervision, or his designee, acting pursuant to delegated authority, approved the application of Lawrence Federal Savings Bank, Ironton, Ohio, to convert to the stock form of organization. Copies of the application are available for inspection at the Dissemination Branch, Office of Thrift Supervision, 1700 G Street, NW., Washington, DC 20552, and the Central Regional Office, Office of Thrift Supervision, 200 West Madison Street, Suite 1300, Chicago, Illinois 60606.

Dated: November 14, 2000.
By the Office of Thrift Supervision.
Nadine Y. Washington,
Corporate Secretary.

[FR Doc. 00-29457 Filed 11-16-00; 8:45 am]

BILLING CODE 6720-01-M